DEPARTMENT OF DEFENSE

Office of the Secretary

Renewal of Department of Defense Federal Advisory Committees

AGENCY: Department of Defense (DoD).

ACTION: Renewal of Federal Advisory Committee.

SUMMARY: The Department of Defense (DoD) is publishing this notice to announce that it is renewing the charter for the Board of Visitors for the Western Hemisphere Institute for Security Cooperation (“the Board”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Board is a nondiscretionary Federal advisory committee that shall provide independent advice and recommendations on matters pertaining to the operations and management of the Western Hemisphere Institute for Security Cooperation (“the Institute”). The Board shall:

a. Inquire into the curriculum, instruction, physical equipment, fiscal affairs, and academic methods of the Institute; other matters relating to the Institute that the Board decides to consider; and any other matter that the Secretary of Defense determines appropriate.

b. Review the curriculum to determine whether it adheres to current U.S. doctrine, complies with applicable U.S. laws and regulations, and is consistent with U.S. policy goals toward Latin America and the Caribbean.

c. Determine whether the instruction under the curriculum of the Institute appropriately emphasizes human rights, the rule of law, due process, civilian control of the military, and the role of the military in a democratic society.

The Board shall report to the Secretary of Defense and the Deputy Secretary of Defense, through the Secretary of the Army. The Secretary of Defense, the Deputy Secretary of Defense, or the Secretary of the Army may act upon the Board's advice and recommendations.

The Department of Defense (DoD), through the Secretary of the Army, shall provide support, as deemed necessary, for the performance of the Board's functions and shall ensure compliance with the requirements of the FACA, the Government in the Sunshine Act of 1976 (5 U.S.C. 552b, as amended) (“the Sunshine Act”), governing Federal statutes and regulations, and established DoD policies and procedures.

Pursuant to 10 U.S.C. 2166(e), the Board shall be comprised of 14 members; six of whom will, to the extent practicable, have professional experience in academia, religious institutions, and human rights communities. The remaining members, pursuant to 10 U.S.C. 2166(e), shall include the following regular government employee (RGE) members:

a. Two Members of the Senate (the Chair and Ranking Member of the Armed Services Committee or a designee of either of them);

b. Two Members of the House of Representatives (the Chair and Ranking Member of the Armed Services Committee or a designee of either of them);

c. One person designated by the Secretary of State;

d. The senior military officer responsible for training and doctrine in the U.S. Army (or designee); and

e. The Combatant Commanders with geographic responsibility for the Western Hemisphere (U.S. Northern and Southern Command) (or the designees of those officers).

Those individuals, whose appointments to the Board will be designated or affirmed by the Secretary of Defense or Deputy Secretary of Defense, will be appointed for a term of service of one-to-four years, and their appointments will be renewed on an annual basis pursuant to DoD policies and procedures. None of these members, unless authorized by the Secretary of Defense or the Deputy Secretary of Defense, may serve more than two consecutive terms of service on the Board, to include its subcommittees. Board members, who are not full-time or permanent part-time federal employees, shall be appointed as experts or consultants, pursuant to 5 U.S.C. § 3109, to serve as special government employee (SGE) members. Those individuals serving on the Board who are full-time or permanent part-time Federal employees shall be appointed to serve as regular government employee (RGE) members, pursuant to 41 CFR 102-3.130(a). All members of the Board are appointed to provide advice to the Government on the basis of their best judgment without representing any particular point of view and in a manner that is free from conflict of interest.

The Secretary of Defense, in consultation with the Secretary of the Army, shall appoint the Board's Chair from the total membership. In addition, The Secretary of the Army, at the request of the Board and with the approval of the Secretary of Defense or Deputy Secretary of Defense, may appoint non-voting subject matter experts or consultants to assist the Board or its subcommittees on an ad hoc basis. These non-voting subject matter experts or consultants are not members of the Board or its subcommittees, will not engage or participate in any deliberations by the Board or its subcommittees, and do not have the ability to vote as members of the Board or its subcommittees. These non-voting subject matter experts or consultants, if not full-time or permanent part-time federal employees, will be appointed as experts and consultants, pursuant to 5 U.S.C. § 3109, to serve as SGEs, whose appointments must be renewed on an annual basis. Those individuals who are full-time or permanent part-time federal employees shall be appointed to serve as RGE non-voting subject matter experts or consultants.

With the exception of reimbursement of official Board-related travel and per diem, Board members and any non-voting experts or consultants shall serve without compensation.

The Department, when necessary and consistent with the Board's mission and DoD policies and procedures, may establish subcommittees, task forces, or working groups to support the Board. Establishment of subcommittees will be based upon a written determination, to include terms of reference, by the Secretary of Defense, the Deputy Secretary of Defense, or the Secretary of the Army, as the Board's Sponsor.

Such subcommittees shall not work independently of the chartered Board, and shall report all of their recommendations and advice solely to the Board for full and open deliberation and discussion. Subcommittees, task forces, or working groups have no authority to make decisions and recommendations, verbally or in writing, on behalf of the Board. No subcommittee or any of its members can update or report, verbally or in writing, on behalf of the Board, directly to the DoD or any Federal officers or employees.

The Board shall establish and maintain two permanent subcommittees, whose members shall be comprised of individuals with professional experience in academia, religious institutions, and human rights communities. Each subcommittee shall be comprised of no more than eight members.

a. Subcommittee on Education: Provides independent advice and recommendations for the Board's consideration on the Institute's curriculum and the current challenges faced by our international partners' government, military, and law enforcement agencies, to determine if new topics should be considered for inclusion; also makes recommendations on adjustments to the curriculum or courses that are no longer applicable.

b. Subcommittee on Outreach: Provides independent advice and recommendations for the Board's consideration on developing an outreach plan of action to strengthen support for the Institute among influential officials from our international partners to increase student and instructor attendance and encourage burden sharing; strengthen support for the Institute from key U.S. military, civilian, governmental and interagency personnel to sustain funding levels and expand the Institute's role; and develop an outreach plan to identify new partner nations that may be interested in sending students, instructors, guest lectures, or liaison officers to the Institute.

The Secretary of Defense or the Deputy Secretary of Defense will appoint subcommittee members to a term of service of one-to-four years, with annual renewals, even if the member in question is already a member of the Board. Subcommittee members shall not serve more than two consecutive terms of service, unless authorized by the Secretary of Defense or the Deputy Secretary of Defense.

Subcommittee members, if not full-time or permanent part-time federal employees, will be appointed as experts or consultants, pursuant to 5 U.S.C. § 3109, to serve as SGE members. Those individuals who are full-time or permanent part-time Federal employees shall be appointed to serve as RGE members, pursuant to 41 CFR § 102-3.130(a). All subcommittee members are appointed to provide advice for the Board's consideration to the Government on the basis of their best judgment without representing any particular point of view and in a manner that is free from conflict of interest. With the exception of reimbursement of official travel and per diem, subcommittee members shall serve without compensation.

All subcommittees operate under the provisions of FACA, the Sunshine Act, governing Federal statutes and regulations, and established DoD policies and procedures. The Designated Federal Officer (DFO), pursuant to DoD policy, shall be a full-time or permanent part-time DoD employee, and shall be appointed in accordance with established DoD policies and procedures.

In addition, the DFO is required to be in attendance at all meetings of the Board and any subcommittees, for the entire duration of each and every meeting; however, in the absence of the DFO, a properly approved Alternate DFO, duly appointed to the Board according to established DoD policies and procedures, shall attend the entire duration of all meetings of the Board or its subcommittees.

The DFO or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to the Board of Visitors for the Western Hemisphere Institute for Security Cooperation membership about the Board's mission and functions. Written statements may be submitted at any time or in response to the stated agenda of planned meeting of the Board of Visitors for the Western Hemisphere Institute for Security Cooperation.

All written statements shall be submitted to the DFO for the Board of Visitors for the Western Hemisphere Institute for Security Cooperation, and this individual will ensure that the written statements are provided to the membership for their consideration. Contact information for the Board of Visitors for the Western Hemisphere Institute for Security Cooperation DFO can be obtained from the GSA's FACA Database—http://www.facadatabase.gov/.

The DFO, pursuant to 41 CFR 102-3.150, will announce planned meetings of the Board of Visitors for the Western Hemisphere Institute for Security Cooperation. The DFO, at that time, may provide additional guidance on the submission of written statements that are in response to the stated agenda for the planned meeting in question.

Dated: June 12, 2014.
Aaron Siegel,
Alternate OSD Federal Register Liaison Officer, Department of Defense.

[FR Doc. 2014-14149 Filed 6-16-14; 8:45 am]

BILLING CODE 5001-06-P